DEPARTMENT OF ENERGY

Federal Energy Regulatory Commission

[Docket No. RP03-545-004]

Dominion Cove Point LNG, LP; Notice of Compliance Filing

March 19, 2004.

Take notice that on March 15, 2004, Dominion Cove Point LNG, LP (Cove Point) tendered for filing as part of its FERC Gas Tariff, Original Volume No. 1, the following tariff sheets, with an effective date of August 1, 2003:

Third Sub. Second Revised Sheet No. 240

Third Sub. First Revised Sheet No. 241

Second Sub. Second Revised Sheet No. 245

Cove Point states that the purpose of this filing is to comply with the Commission's “Order on Compliance and Rehearing” issued on March 5, 2004. Cove Point states it has filed to revise its capacity release provisions relating to the pre-qualification requirement for potential replacement shippers in section 10 of the General Terms and Conditions of its FERC Gas Tariff consistent with the Commission's March 5, 2004, Order.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-671 Filed 3-24-04; 8:45 am]

BILLING CODE 6717-01-P